DEPARTMENT OF AGRICULTURE

Rural Business—Cooperative Service

Notice of Funding Availability (NOFA) for the Rural Energy for America Program

AGENCY: Rural Business-Cooperative Service, USDA.

ACTION: Notice; correction.

SUMMARY: The Agency published a document in the Federal Register on January 20, 2012, at 77 FR 2948 to announce the acceptance of applications under the Rural Energy for America Program (REAP) for Fiscal Year 2012 for financial assistance as follows: Grants, guaranteed loans, and combined grants and guaranteed loans for the development and construction of renewable energy systems and for energy efficiency improvement projects; grants for conducting energy audits; grants for conducting renewable energy development assistance; and grants for conducting renewable energy system feasibility studies. The document contained two errors on page 2951 in reference to deadline dates for National competitions.

FOR FURTHER INFORMATION CONTACT: Contact the applicable USDA Rural Development Energy Coordinator for your respective State as identified in the original NOFA at 77 FR 2948.

SUPPLEMENTARY INFORMATION:

Need for Corrections

The deadline dates for National competitions need to reflect the correct year. The dates in the original NOFA contained the year “2011” rather than “2012”. To clarify, all unfunded eligible grant only and grant and guaranteed loan combination applications received by March 30, 2012, will be competed against other grant only and grant and guaranteed loan combination applications from other States at a final National competition. In addition, all unfunded eligible guaranteed loan only applications received by June 29, 2012, will be competed against other guaranteed loan only applications from other States at a final National competition if the guaranteed loan reserves have not been completely depleted.

Correction of Publication

In the Federal Register dated January 20, 2012, the following are corrected:

1. On page 2951, column 1, the eighteenth line down under C. State and National competitions, “March 30, 2011” is corrected to read “March 30, 2012”.

2. On page 2951, column 2, tenth line down, “June 29, 2011” is corrected to read “June 29, 2012”.

Dated: March 21, 2012.
Judith A. Canales,
Administrator, Rural Business—Cooperative Service.

[FR Doc. 2012-8252 Filed 4-5-12; 8:45 am]

BILLING CODE 3410-XY-P